FEDERAL ELECTION COMMISSION

Sunshine Act Meeting

Federal Register CITATION NOTICE OF PREVIOUS ANNOUNCEMENT: 83 FR 19558.

PREVIOUSLY ANNOUNCED TIME AND DATE OF THE MEETING: Tuesday, May 8, 2018 at 10:00 a.m.

CHANGES IN THE MEETING: This meeting was continued on Thursday, May 10, 2018.

* * * * *

CONTACT FOR MORE INFORMATION: Judith Ingram, Press Officer, Telephone: (202) 694-1220.

Laura E. Sinram,
Deputy Secretary of the Commission.

[FR Doc. 2018-10384 Filed 5-11-18; 11:15 am]

BILLING CODE 6715-01-P